DEPARTMENT OF THE INTERIOR

National Park Service

[NPS-WASO-NAGPRA-NPS0026864; PPWOCRADN0-PCU00RP14.R50000]

Notice of Inventory Completion: U.S. Department of the Interior, Bureau of Land Management, Idaho State Office, Boise, ID

AGENCY: National Park Service, Interior.

ACTION: Notice.

SUMMARY: The Bureau of Land Management, Idaho State Office (BLM) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bureau of Land Management, Idaho State Office. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bureau of Land Management, Idaho State Office at the address in this notice by December 14, 2018.

ADDRESSES: F. Kirk Halford, BLM Idaho State NAGPRA Coordinator, Idaho Bureau of Land Management, 1387 South Vinnell Way, Boise, ID 83709, telephone (208) 373-4043, email fhalford@blm.gov.

SUPPLEMENTARY INFORMATION: Notice is here given in accordance with the Native American Graves Protection and Repatriation Act (NAGPRA), 25 U.S.C. 3003, of the completion of an inventory of human remains and associated funerary objects under the control of the U.S. Department of the Interior, Bureau of Land Management, Idaho State Office, Boise, ID and housed at the Idaho Museum of Natural History, Earl H. Swanson Archaeological Repository, Idaho State University, Pocatello, ID (IMNH). The human remains and associated funerary objects were removed from Hanging Valley Cave (10JE5), Jerome County, ID, on land administered by the BLM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the BLM and IMNH professional staff in consultation with representatives of the Shoshone-Bannock Tribes of the Fort Hall Reservation and the Shoshone-Paiute Tribes of the Duck Valley Reservation, Nevada.

History and Description of the Remains

At an unknown date, human remains representing, at minimum, one individual were removed from a crevice in Hanging Valley Cave (10JE5) in Jerome County, ID, by Gene Titmus of Twin Falls, ID. In 1962, Mr. Titmus turned over the human remains to IMNH. Forensics analysis of the two parietal cranial bones conducted by IMNH concluded the human remains were from one middle aged individual based on “obliteration of the sagittal sutures.” Burning on the human remains suggests they were cremated. No known individuals were identified. The seven associated funerary objects are six Rose Spring/Eastgate corner notched projectile points and one basal fragment.

Based on projectile point typology and chronologies for southern Idaho, the site can be dated to the Late Period, with a date range from A.D. 300 to 1850. As evidenced by the geographic location (Jerome County, ID), chronology of the site, archeological, ethnographic, oral history and historic evidence, the human remains and associated funerary objects are determined to be culturally affiliated to the Uto Aztecan speaking Bannock, Northern Shoshone and Northern Paiute tribes who inhabited the region during the period of use and today. The burial site is within the territory of the Northwestern Band of Shoshone Nation, the Shoshone-Bannock Tribes of the Fort Hall Reservation, Idaho, and the Shoshone-Paiute Tribes of the Duck Valley Reservation, Nevada. In consultation with the tribes, and as supported in ethnographies, the seven projectile points determined to be associated funerary objects are the types of objects interred with burials.

Determinations Made by the Bureau of Land Management, Idaho State Office

Officials of the Bureau of Land Management, Idaho State Office have determined that:

• Pursuant to 25 U.S.C. 3001(9), the human remains described in this notice represent the physical remains of one individual of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American human remains and associated funerary objects and the Northwestern Band of Shoshone Nation (previously listed as Northwestern Band of Shoshoni Nation and the Northwestern Band of Shoshoni Nation (Washakie)); Shoshone-Bannock Tribes of the Fort Hall Reservation; and the Shoshone-Paiute Tribes of the Duck Valley Reservation, Nevada.

Additional Requestors and Disposition

Lineal descendants or representatives of any Indian Tribe or Native Hawaiian organization not identified in this notice that wish to request transfer of control of these human remains and associated funerary objects should submit a written request with information in support of the request to F. Kirk Halford, BLM Idaho State NAGPRA Coordinator, Idaho Bureau of Land Management, 1387 South Vinnell Way, Boise, ID 83709, telephone (208) 373-4043, email fhalford@blm.gov, by December 14, 2018. After that date, if no additional requestors have come forward, transfer of control of the human remains and associated funerary objects to the Northwestern Band of Shoshone Nation (previously listed as Northwestern Band of Shoshoni Nation and the Northwestern Band of Shoshoni Nation (Washakie)); Shoshone-Bannock Tribes of the Fort Hall Reservation; and the Shoshone-Paiute Tribes of the Duck Valley Reservation, Nevada may proceed.

The Bureau of Land Management, Idaho State Office is responsible for notifying the Northwestern Band of Shoshone Nation (previously listed as Northwestern Band of Shoshoni Nation and the Northwestern Band of Shoshoni Nation (Washakie)); Shoshone-Bannock Tribes of the Fort Hall Reservation; and the Shoshone-Paiute Tribes of the Duck Valley Reservation, Nevada that this notice has been published.

Dated: October 22, 2018.
Melanie O'Brien,
Manager, National NAGPRA Program.

[FR Doc. 2018-24766 Filed 11-13-18; 8:45 am]

BILLING CODE 4312-52-P